SOCIAL SECURITY ADMINISTRATION

20 CFR Part 416

[Docket No. SSA-2006-0103]

RIN 0960-AF99

Technical Updates to Applicability of the Supplemental Security Income (SSI) Reduced Benefit Rate for Individuals Residing in Medical Treatment Facilities

AGENCY: Social Security Administration.

ACTION: Final rule; correcting amendment.

SUMMARY: This document contains a correction to the final rules that were published in the Federal Register on September 5, 2007 (72 FR 50871). The final rules amended our regulations to reflect two provisions of the Balanced Budget Act of 1997 that affect the payment of benefits under title XVI of the Social Security Act (the Act). One of the provisions extended temporary institutionalization benefits to children receiving SSI benefits who enter private medical treatment facilities and who otherwise would be ineligible for temporary institutionalization benefits because of private insurance coverage. The other provision replaced obsolete terminology in the Act that referred to particular kinds of medical facilities and substituted a broader, more descriptive term.

DATES: Effective on October 5, 2007.

FOR FURTHER INFORMATION CONTACT: Lois Berg, Social Insurance Specialist, Office of the Commissioner, Social Security Administration, 922 Altmeyer Building, 6401 Security Boulevard, Baltimore, MD 21235-6401, (410) 965-1713, for information about this notice. For information on eligibility or filing for benefits, call our national toll-free number, 1-800-772-1213 or TTY 1-800-325-0778, or visit our Internet site, Social Security Online, at http://www.socialsecurity.gov.

SUPPLEMENTARY INFORMATION: The final rule published on September 5, 2007 and effective October 5, 2007 included changes in terminology in § 416.414(a)(1), (2) and (3). These changes were inadvertently removed from the final rule published on September 5, 2007. This correction now shows that the terminology should be changed in those three subordinate paragraphs.

List of Subjects in 20 CFR Part 416

Administrative practice and procedure, Aged, Blind, Disability benefits, Public assistance programs, Reporting and recordkeeping requirements, Supplemental Security Income (SSI).

Accordingly, 20 CFR part 416 is corrected by making the following correcting amendment:

PART 416—SUPPLEMENTAL SECURITY INCOME FOR THE AGED, BLIND, AND DISABLED

Subpart D—[Amended]

1. The authority citation for subpart D of part 416 continues to read as follows:

Authority: Secs. 702(a)(5), 1611(a), (b), (c), and (e), 1612, 1617, and 1631 of the Social Security Act (42 U.S.C. 902(a)(5), 1382(a), (b), (c), and (e), 1382a, 1382f, and 1383).

§ 416.414 [Amended]

2. In § 416.414(a)(1), (2) and (3), remove the words “medical facility” and “medical care facility” wherever they appear and add in their place the words “medical treatment facility”.

Dated: September 18, 2007.
Paul Kryglik,
Acting Social Security Regulations Officer.

[FR Doc. E7-18815 Filed 9-24-07; 8:45 am]

BILLING CODE 4191-02-P